DEPARTMENT OF HOMELAND SECURITY

Coast Guard

[Docket No. USCG-2010-1085]

Detecting Oil Leaks From Vessels Into the Water

AGENCY: Coast Guard, DHS.

ACTION: Notice and request for information.

SUMMARY: In section 707 of the Coast Guard Authorization Act of 2010, Congress directs the Secretary of the Department in which the Coast Guard is operating to report on the availability, feasibility, and potential cost of technology to detect the loss of oil carried as cargo or as fuel on tank and non-tank vessels greater than 400 gross tons. Through this Notice, the Coast Guard seeks information about the current state of technology to detect loss of oil into the water.

DATES: Comments and related material must either be submitted to our online docket via http://www.regulations.gov on or before January 24, 2011 or reach the Docket Management Facility by that date.

ADDRESSES: You may submit comments identified by docket number USCG-2010-1085 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or e-mail Mrs. Dolores Mercier, U.S. Coast Guard Office of Design and Engineering Standards; telephone 202-372-1485, e-mail Dolores.P.Mercier@uscg.mil. If you have questions on viewing or submitting material to the docket, call Renee V. Wright, Program Manager, Docket Operations, telephone 202-366-9826.

SUPPLEMENTARY INFORMATION:

Public Participation and Request for Comments

We encourage you to submit information about the current state of technology to detect loss of oil into the water. All information received will be posted, without change, to http://www.regulations.gov and will include any personal information you have provided.

Submitting comments: If you submit material, please include the docket number for this notice (USCG-2010-1085). You may submit your material online, or by fax, mail or hand delivery, but please use only one of these means. We recommend that you include your name and a mailing address, an e-mail address, or a telephone number in the body of your document so that we can contact you if we have questions regarding your submission.

To submit your material online, go to http://www.regulations.gov, click on the “submit a comment” box, which will then become highlighted in blue. In the “Document Type” drop down menu select “Notices” and insert “USCG-2010-1085” in the “Keyword” box. Click “Search” then click on the balloon shape in the “Actions” column. If you submit information by mail or hand delivery, submit them in an unbound format, no larger than 8½ by 11 inches, suitable for copying and electronic filing. If you submit them by mail and would like to know that they reached the Facility, please enclose a stamped, self-addressed postcard or envelope.

Viewing the comments: To view the comments, go to http://www.regulations.gov, click on the “read comments” box, which will then become highlighted in blue. In the “Keyword” box insert “USCG-2010-1085” and click “Search.” Click the “Open Docket Folder” in the “Actions” column. If you do not have access to the internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act system of records notice regarding our public dockets in the January 17, 2008, issue of the Federal Register (73 FR 3316).

Background and Purpose

The purpose of a device to detect loss of oil from a vessel into the water is to reduce the size and impact of an oil spill by alerting the vessel's crew to take action to minimize the impact. However, these devices will not stop the outflow of oil into the water.

Between October 2004 and October 2005, the Coast Guard conducted a study of technology used to detect the loss of oil from oil cargo tanks into the water. As part of this study, we reviewed technologies used to monitor the level of oil from inside the cargo tank and to detect pollution from outside the tank. Devices inside the tank include liquid level gauges typically employed for monitoring cargo during transfer operations. Devices outside the tank include oil/water interface sensors that, theoretically, would be deployed around a vessel or towed astern to detect oil in the water. In both cases, we found that existing technologies did not fit the performance expectations of a device that could detect the loss of oil from a vessel underway in a dynamic marine environment. This study can be found in docket number USCG-2001-9046.

The Coast Guard seeks information about new technology that was not considered in the 2005 study. We are particularly interested in information that includes details about the:

—Physical principles of operation of the device;

—Degree of experience with actual usage of the device;

—Performance and limitations of the device;

—Power requirements for the device; and

—Capacity to operate in a dynamic environment, including an explosive atmosphere.

Please consider the following questions when responding to this notice and request for information:

(A) What new technology exists to detect the loss of oil into the water?

(B) What is the availability of such technology?

(C) What are the costs of installation and maintenance of such technology?

(D) What methods or equipment are currently under development that may be able to detect leaks from oil tanks into the water?

(E) What is the threshold for detection, accuracy, sensitivity, and reliability in both the static and dynamic conditions found on moving vessels?

(F) How is the crew alerted?

(G) Do the methods or types of equipment discussed in this rulemaking have uses other than leak detection from oil cargo tanks into the water?

(H) Are methods or equipment being applied for similar purposes in other industries (e.g., the aerospace, rail, military, or over-the-road truck industries) that merit investigation for use aboard vessels?

We will review and analyze all information received in preparation for the development of the required report on the availability of technology to detect the loss of oil carried as cargo or as fuel on tank and non-tank vessels greater than 400 gross tons.

Authority

This notice is issued under authority of 5 U.S.C. 552(a).

Dated: December 2, 2010.
F.J. Sturm,
U.S. Coast Guard, Deputy Director of Commercial Regulations and Standards.

[FR Doc. 2010-30929 Filed 12-8-10; 8:45 am]

BILLING CODE 9110-04-P